FARM CREDIT ADMINISTRATION

Market Access Agreement; Correction

AGENCY: Farm Credit Administration.

ACTION: Notice of approval of the Draft Third Amended and Restated Market Access Agreement; correction.

SUMMARY: The Farm Credit Administration (FCA) published a notice in the Federal Register on January 18, 2017, of its approval of the Draft Third Amended and Restated Market Access Agreement (Draft Third Restated MAA). This document corrects that notice by inserting a minor term and phrase that were inadvertently omitted in the Draft Third Restated MAA which was included in the notice.

FOR FURTHER INFORMATION CONTACT:

David Lewandrowski, Senior Policy Analyst, Office of Regulatory Policy, Farm Credit Administration, 1501 Farm Credit Drive, McLean, VA 22102-5090, (703) 883-4212, TTY (703) 883-4056; or

Rebecca S. Orlich, Senior Counsel, Office of General Counsel, Farm Credit Administration, McLean, VA 22102-5090, (703) 883-4420, TTY (703) 883-4056.

SUPPLEMENTARY INFORMATION: The FCA published a document in the Federal Register on January 18, 2017 (82 FR 5565). In FR Doc. 2017-01054, make the following corrections on two separate pages:

1. Add the term “Leverage Ratio” on page 5567, in the first column, line 63 after “Tier 1”.

2. On page 5576, in the second column, line 44, add the phrase “as amended from time to time or any successor thereto” to the end of the sentence.

3. On page 5576, in the second column, line 46, add the phrase “as amended from time to time or any successor thereto” to the end of the sentence.

Dated: January 23, 2017
Dale L. Aultman,
Secretary, Farm Credit Administration Board.

[FR Doc. 2017-01760 Filed 1-25-17; 8:45 am]

BILLING CODE 6705-01-P